NUCLEAR REGULATORY COMMISSION

[Docket No. 72-32; NRC-2022-0024]

NextEra Energy Duane Arnold, LLC; Duane Arnold Energy Center Independent Spent Fuel Storage Installation

AGENCY: Nuclear Regulatory Commission.

ACTION: Exemption; issuance.

SUMMARY: The U.S. Nuclear Regulatory Commission (NRC) has issued an exemption to NextEra Energy Duane Arnold, LLC (NEDA), for the Duane Arnold Energy Center (DAEC) Independent Spent Fuel Storage Installation (ISFSI). The exemption allows a failed fuel can (FFC) and its contents at DAEC to exceed the limits specified in Table 1-1t in Appendix B, Technical Specifications, of NRC Certificate of Compliance (CoC) No. 1004, Renewed Amendment No. 17.

DATES: The exemption was issued on February 11, 2022.

ADDRESSES: Please refer to Docket ID NRC-2022-0024 when contacting the NRC about the availability of information regarding this document. You may obtain publicly available information related to this document using any of the following methods:

• Federal Rulemaking Website: Go to https://www.regulations.gov and search for Docket ID NRC-2022-0024. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Tilda Liu, Office of Nuclear Material Safety and Safeguards, U.S. Nuclear Regulatory Commission, Washington, DC 20555-0001; telephone: 404-997-4730, email: Tilda.Liu@nrc.gov.

SUPPLEMENTARY INFORMATION: The NRC issued an exemption (ADAMS Package Accession No. ML22007A271) to NEDA for the DAEC ISFSI. By letter dated October 21, 2021 (ADAMS Accession No. ML21294A280), as supplemented by letters dated December 10, 2021 (ADAMS Accession No. ML21344A186), and January 6, 2022 (ADAMS Accession No. ML22006A105), NEDA submitted a one-time exemption request to the NRC for the DAEC ISFSI, in accordance with section 72.7 of title 10 of the Code of Federal Regulations (10 CFR), “Specific exemptions,” from the requirements of 10 CFR 72.212 (a)(2), (b)(2), (b)(3), (b)(4), (b)(5)(i), (b)(11), and 72.214. Specifically, the one-time exemption request sought the NRC approval for a failed fuel can (FFC) and its contents at DAEC to exceed the limits specified in Table 1-1t in Appendix B, Technical Specifications, of NRC Certificate of Compliance (CoC) No. 1004, Renewed Amendment No. 17 (ADAMS Package Accession No. ML21109A325).

The granted exemption permits the DAEC ISFSI to deviate from a specific requirement contained in Table 1-1t in Appendix B of NRC CoC No. 1004, Renewed Amendment No. 17, by allowing NEDA to load a failed fuel assembly in an FCC, within a DAEC dry shielded canister (DSC) No. 30 fuel cell, where the combined weight of the failed fuel assembly plus the FCC exceeds the 705 lb limit. Under the exemption, the FCC and its contents may weigh a maximum of 800 lb. As a condition of this exemption, however, NEDA is required to leave at least two adjacent DSC fuel cells empty in its spent fuel pool off-load campaign to increase the available margin for weight. The NRC staff also prepared an environmental assessment and finding of no significant impact regarding the renewal of the facility operating license, published in the Federal Register on February 2, 2022 (87 FR 5847), and concluded that renewal of the facility operating license will not have a significant impact on the quality of the human environment. An analysis of this exemption can be found at the previously cited ADAMS package accession number (ML22007A271).

Dated: February 15, 2022.
For the Nuclear Regulatory Commission.
Yoira K. Diaz-Sanabria,
Chief, Storage and Transportation Licensing Branch, Division of Fuel Management, Office of Nuclear Material Safety and Safeguards.

[FR Doc. 2022-03590 Filed 2-17-22; 8:45 am]

BILLING CODE 7590-01-P